DEPARTMENT OF TRANSPORTATION

Federal Highway Administration

Notice of Final Federal Agency Actions on Proposed Highway in California

AGENCY: Federal Highway Administration (FHWA), DOT.

ACTION: Notice of Limitation on Claims for Judicial Review of Actions by FHWA.

SUMMARY: This notice announces actions taken by the FHWA and other Federal agencies that are final within the meaning of 23 U.S.C. 139(l)(1). The actions relate to the proposed State Route 11 and Otay Mesa East Land Port of Entry in the City and County of San Diego, State of California. These actions grant licenses, permits, and approvals for the project.

DATES: By this notice, the FHWA is advising the public of final agency actions subject to 23 U.S.C. 139(l)(1). A claim seeking judicial review of the Federal agency actions on the highway project will be barred unless the claim is filed on or before April 8, 2013. If the Federal law that authorizes judicial review of a claim provides a time period of less than 180 days for filing such claim, then that shorter time period still applies.

FOR FURTHER INFORMATION CONTACT: Manuel E. Sánchez, Senior Transportation Engineer/Border Engineer, Federal Highway Administration—California Division, 401 B Street, Suite 800, San Diego, CA 92101, Regular Office Hours: 6:30 a.m. to 4:00 p.m., Telephone: (619) 699-7336, Email: manuel.sanchez@dot.gov, or Bruce L. April, Deputy District Director—Environmental, Caltrans District 11, 4050 Taylor Street, MS 242, San Diego, CA 92110, Regular Office Hours: 8:00 a.m. to 5:00 p.m., Telephone: (619) 688-0100, Email: Bruce_April@dot.ca.gov.

SUPPLEMENTARY INFORMATION: Notice is hereby given that the FHWA and other Federal agencies have taken final agency actions by issuing licenses, permits, and approvals for the following highway project in the State of California: The State Route 11 and the Otay Mesa East Port of Entry in City and County of San Diego, California. The selected Tier II Preferred Modified Two Interchange Alternative consists of SR-11, which will be constructed as a 2.1-mile, four-lane toll highway, with two lanes in each direction, plus auxiliary lanes and connectors from Harvest Road for approximately 1.5 miles, before curving to the southeast near Alta Road and continuing for approximately 0.6 mile to connect with the new Otay Mesa Port Of Entry (POE)/Commercial Vehicle Enforcement Facility (CVEF) site. SR-11 will cross four local surface streets: Sanyo Avenue, Enrico Fermi Drive, Alta Road, and Siempre Viva Road. Modifications to SR-905 to accommodate its connections with SR-11 will occur between the SR-905/SR-125/SR-11 Interchange and the SR-905/Britannia Boulevard Interchange. These modifications will include the construction of two-lane connectors between the two highways, the addition of an auxiliary lane between La Media Road and the eastbound SR-11 connector, and the tapering of these connectors to match SR-905 in the vicinity of the Britannia Boulevard Interchange. On the westbound side of SR-905, the proposed project will also construct a ramp from SR-11 to tie into the planned SR-905 and SR-125 off-ramps to La Media Road. SR-11 will include a full interchange at Enrico Fermi Drive and partial interchange at Siempre Viva Road, as well as an undercrossing at Sanyo Avenue and an overcrossing at Alta Road. The POE will occupy approximately 101 acres, and will accommodate northbound and southbound commercial and passenger traffic, as well as pedestrians and bicycles. The proposed project also includes a new CVEF, which will occupy approximately 18 acres east of SR-11 along the northern POE boundary. Total new R/W acquisition associated with the Modified Two Interchange Alternative would be approximately 236.6 acres.

The actions by the FHWA and other Federal agencies, and the laws under which such actions were taken, are described in the Final Environmental Impact Statement (FEIS) for the project, approved on March 29, 2012, in the FHWA Record of Decision (ROD) issued on September 24, 2012, and other key documents. The FEIS and ROD are available by contacting FHWA at the address provided above. The FHWA FEIS can be viewed and downloaded from the project Web site at: http://www.dot.ca.gov/dist11/Env_docs/SR11/Final_tech.html.

The FEIS can also be viewed at public libraries in the project area.

Pending federal actions include:

This notice applies to all Federal agency decisions as of the issuance date of this notice and all laws under which such actions were taken, including but not limited to:

1. General: National Environmental Policy Act of 1969, as amended [42 U.S.C. 4321 et seq.]; Federal-Aid Highway Act [23 U.S.C 109];

2. Air: Clean Air Act Amendments of 1990 (CAAA) [[42 U.S.C. 7401-7671(q)];

3. Wetlands and Water Resources: Clean Water Act, 33 U.S.C. 1251-1377 [Section 404, Section 401, Section 319]; Safe Drinking Water Act [42 U.S.C. 300f et seq.]; TEA-21 Wetlands Mitigation [23 U.S.C. 103(b)(6)(m), 133(b)(11)]; Flood Disaster Protection Act [42 U.S.C. 4001-129];

4. Wildlife: Endangered Species Act [16 U.S.C. 1531-1544]; Migratory Bird Treaty Act [16 U.S.C. 703-712];

5. Land: Federal Land Policy and Management Act of 1976 (Paleontological Resources)

6. Historic and Cultural Resources: Section 106 of the National Historic Preservation Act of 1966, as amended [16 U.S.C. 470f]

7. Social and Economic: Civil Rights Act of 1964 [42 U.S.C. 2000(d)- 2000(d)(1)]; Farmland Protection Policy Act (FPPA) [7 U.S.C. 4201-4209]

Executive Orders: E.O. 11990, Protection of Wetlands; E.O. 11988, Floodplain Management; E.O. 12898, Federal Actions to Address Environmental Justice in Minority Populations and Low Income Populations; E.O. 13175, Consultation and Coordination with Indian Tribal Governments; E.O. 13112, Invasive Species. Nothing in this notice creates a cause of action under these Executive Orders.

(Catalog of Federal Domestic Assistance Program Number 20.205, Highway Planning and Construction. The regulations implementing Executive Order 12372 regarding intergovernmental consultation on Federal programs and activities apply to this program.)

Authority: 23 U.S.C. 139(l)(1)

Issued on: October 3, 2012.
Vincent P. Mammano,
Division Administrator, Federal Highway Administration, Sacramento, California.

[FR Doc. 2012-24934 Filed 10-9-12; 8:45 am]

BILLING CODE 4910-RY-P